DEPARTMENT OF HEALTH AND HUMAN SERVICES

Office of the Secretary

[Document Identifier: HHS-OS-21354-60D]

Agency Information Collection Activities; Proposed Collection; Public Comment Request

AGENCY: HHS/Office of the National Coordinator for Health Information Technology, (ONC).

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0955-0006, which expires on March 31, 2014. Prior to submitting that ICR to OMB, OS seeks comments from the public regarding the burden estimate, below, or any other aspect of the ICR.

DATES: Comments on the ICR must be received on or before March 31, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-21354-60D for reference.

Information Collection Request Title: ARRA Section 3013 State Health Information Exchange Cooperative Agreement Program: State Plans.

OMB No.: 0955-0006.

Abstract: States and QSDEs will be required to submit annual update to the State Plans reflecting updates in legal, policy, or technical infrastructure changes, as well as expanded content on sustainability and business planning for the HIE services fostered through the cooperative agreement, evaluation of the project, and alignment with other Federal programs authorized in HITECH. ONC will issue future PINs to provide additional guidance to States and QSDEs on the annual updates to Plan content areas needed. Annual updates to the plan are required one-year from the approval date of the State Plan.

Need and Proposed Use of the Information: ONC program and grants staff will use project management timelines and milestones provided in the State Plans to monitor progress to expand health information capacity within the states. The development and provision of technical assistance on state, regional and national levels will be based on the State Plans' content. ONC intent to use the State Plans' content to highlight best practices, identify areas in need of technical assistance, and document progress to program goals.

Likely Respondents: State government or Qualified State Designated Entity.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
State Plans Strategic Operational | 56 | 1 | 3341.3 | 187,113
Subsequent updates to the State Plan | 56 | 1 | 500 | 28000
Total |  |  |  | 215,113

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2014-01846 Filed 1-29-14; 8:45 am]

BILLING CODE 4150-45-P